EXPORT-IMPORT BANK OF THE UNITED STATES

Economic Impact Policy

This notice is to inform the public that the Export-Import Bank of the United States has received an application for a $70 million direct loan to support the export of approximately $69 million worth of aluminum beverage can and end manufacturing equipment to Saudi Arabia. The U.S. exports will enable the Saudi company to produce approximately 800 million aluminum beverage cans and 8 billion aluminum beverage ends per year during the 10-year repayment term of the loan. Available information indicates that this new Saudi aluminum beverage can and end production will be sold in Saudi Arabia and international markets. Interested parties may submit comments on this transaction by e-mail to economic.impact@exim.gov or by mail to 811 Vermont Avenue, NW., Room 947, Washington, DC 20571, within 14 days of the date this notice appears in the Federal Register.

Jonathan J. Cordone,
Senior Vice President and General Counsel.

[FR Doc. E9-31133 Filed 12-31-09; 8:45 am]

BILLING CODE 6690-01-P